DEPARTMENT OF THE INTERIOR

Fish and Wildlife Service

[FWS-R9-MB-2012-N056; FF09M21200-134-FXMB1231099BPP0]

Final Supplemental Environmental Impact Statement on the Issuance of Annual Regulations Permitting the Hunting of Migratory Birds

AGENCY: Fish and Wildlife Service, Interior.

ACTION: Notice of availability.

SUMMARY: The U.S. Fish and Wildlife Service (Service or we) has prepared a final supplemental environmental impact statement (SEIS) for the issuance of annual regulations permitting the hunting of migratory birds. We published a draft environmental impact statement in July 2010. We considered over 280 public comments in revising the document. The SEIS analyzes a range of management alternatives for addressing the hunting of migratory birds. The analysis provided in the final SEIS is intended to: inform the public of the proposed action and alternatives; address public comments we received on the draft SEIS; and disclose the direct, indirect, and cumulative environmental effects of the proposed action and each of the alternatives.

DATES: The public inspection period for the final SEIS will last 30 days and will end on July 1, 2013.

ADDRESSES: You may inspect comments during normal business hours at the office of the Pacific Flyway Representative, 911 NE 11th Ave., Portland, OR 97232. The final SEIS is available by either writing to the street address indicated above or by viewing it on our Web site at http://www.fws.gov/migratorybirds.

FOR FURTHER INFORMATION CONTACT: Robert Trost, Pacific Flyway Representative, Division of Migratory Bird Management, (503) 231-6162; or Brad Bortner, Chief, Division of Migratory Bird Management, (703) 358-1714.

SUPPLEMENTARY INFORMATION: On September 8, 2005, and again on March 9, 2006, the Service published notice in the Federal Register (70 FR 53376 and 71 FR 12216, respectively) announcing that we intended to prepare a supplemental environmental impact statement for the issuance of annual regulations permitting the hunting of migratory birds. In those notices, we invited public comments on the scope and substance of the SEIS, particular issues the SEIS should address and why, and options or alternatives we should consider. Please refer to the notices (70 FR 53376 and 71 FR 12216) for further information about our regulatory process pertaining to the hunting of migratory birds.

We received public comments on the notices, considered those comments, and developed a draft SEIS that we made available in a July 9, 2010, Federal Register notice (75 FR 39577) in accordance with the requirements of the National Environmental Policy Act of 1969 (42 U.S.C. 4321 et seq.), its implementing regulations (40 CFR parts 1500 to 1508), and Service procedures for compliance with those regulations.

The final SEIS evaluates seven components of the proposed action regarding how we establish the annual regulations for the hunting of migratory birds. The first six components deal with the fall-winter hunting season and include:

(1) Schedule and timing of the general regulatory process. Promulgation of annual hunting regulations relies on a well-defined process of monitoring, data collection, and scientific assessment. At key points during that process, Flyway Technical Committees, Flyway Councils, and the public review and provide valuable input on technical assessments or other documents related to proposed regulatory frameworks. After we adopt final regulatory frameworks, each State selects its seasons, usually following its own schedule of public hearings and other deliberations. After State selections are completed, the Service adopts them as Federal regulations through publication in the Federal Register. In the final SEIS, we present four alternatives regarding the schedule and timing of the general regulatory process.

(2) Frequency of review and adoption of duck regulatory packages. Duck regulatory packages are the set of framework regulations that apply to the general duck hunting seasons. Packages include opening and closing dates, season lengths, daily bag limits, and shooting hours. Current regulatory packages contain a set of frameworks for each of the four flyways and a set of four regulatory alternatives: restrictive (relatively short seasons and low daily bag limits), moderate (intermediate season lengths and daily bag limits), liberal (longer seasons and higher daily bag limits), and closed. In the final SEIS, we present two alternatives regarding how frequently duck regulatory packages should be reviewed and adopted.

(3) Stock-specific harvest strategies. We define a stock as a species, population, or portion of a population that is treated separately for harvest management purposes. Harvest strategies have been developed for stocks deemed not biologically capable of sustaining the same harvest levels that jointly managed stocks are capable of sustaining, or whose migration and distribution do not conform to patterns followed by the most commonly harvested species. The final SEIS presents three alternatives regarding the use of stock-specific harvest strategies.

(4) Special regulations. Special regulations differ from stock harvest strategies because they entail additional days of harvest opportunity outside the established frameworks for general seasons. Special regulations are employed to provide additional harvest opportunity on overabundant species, species that are lightly harvested and can sustain greater harvest pressure, or stocks whose migration and distribution provide opportunities outside the time period in which regular seasons are held. In the final SEIS, we offer two alternatives concerning the development of special regulations.

(5) Management scale for the harvest of migratory birds. We define management scale as the geographic area in which stocks are monitored and harvest is managed. The finer the scale of management employed in harvest management, the higher the cost of monitoring to management agencies. The desire for smaller management scales is driven by the potential for increased harvest opportunity associated with more refined geographic management. The final SEIS presents three alternatives regarding the scale at which migratory birds should be managed.

(6) Zones and split seasons. A zone is a geographic area or portion of a State, with a contiguous boundary, for which an independent season may be selected. A split is a situation where a season is broken into two or more segments with a closed period between segments. The combination of zones and split seasons allows a State to maximize harvest opportunity within the Federal frameworks without exceeding the number of days allowed for a given season. In the final SEIS, we present two alternatives regarding the use of zones and split seasons.

In addition, the final SEIS considers a seventh component of the proposed action concerning the subsistence hunting regulations process for Alaska. Regulations governing the subsistence harvest of migratory birds provide a framework that enables the continuation of customary and traditional subsistence uses of migratory birds in Alaska. These regulations are subject to annual review and are developed under a co-management process involving the Service, the Alaska Department of Fish and Game, and Alaska Native representatives. This annual review process establishes regulations that prescribe frameworks for dates when harvesting of birds may occur, species that can be taken, and methods and means that are excluded from use. In the final SEIS, we offer two alternatives regarding the subsistence harvest of migratory birds in Alaska.

In the final SEIS, we also discuss the impact of cumulative harvest of migratory bird hunting on national wildlife refuges.

Finally, the final SEIS provides and analyzes alternatives for each of these seven components with regard to their potential impacts on migratory bird species, other wildlife species, special status species, vegetation, outdoor recreational activities, physical and cultural resources, and the socioeconomic/administrative environment.

On July 9, 2010 (75 FR 39527), the Environmental Protection Agency published a notice of availability of our draft SEIS. On July 9, 2010 (75 FR 39577), we also published our own notice of availability of the draft SEIS. We published a notice of intent to prepare an SEIS on September 8, 2005 (70 FR 53376) and a notice of meetings on the SEIS on March 9, 2006 (71 FR 12216). Comments were accepted until May 30, 2006.

We received public comments on the draft SEIS from three private individuals, eight State wildlife resource agencies, three nongovernmental organizations, four Flyway Councils, the National Flyway Council, and two Federal agencies. For six of the seven components outlined in the draft SEIS, the Service's preferred alternative was supported by the majority.

We modified the draft SEIS to respond to concerns and issues expressed by individuals, agencies, and organizations.

Dated: April 2, 2013.
Daniel M. Ashe,
Director, U.S. Fish and Wildlife Service.

[FR Doc. 2013-12443 Filed 5-30-13; 8:45 am]

BILLING CODE 4310-55-P